DEPARTMENT OF STATE

[Public Notice 12049]

Determination and Certification Under Section 490(b)(1)(A) of the Foreign Assistance Act Relating to the Largest Exporting and Importing Countries of Certain Precursor Chemicals

Pursuant to Section 490(b)(1)(A) of the Foreign Assistance Act of 1961, as amended, I hereby determine and certify the top five exporting and importing countries and economies of pseudoephedrine and/or ephedrine (cumulatively, Belgium, Czech Republic, Egypt, France, Germany, India, Indonesia, China, Republic of Korea, Romania, Singapore, Switzerland, Taiwan, and the United Kingdom) have cooperated fully with the United States, or have taken adequate steps on their own, to achieve full compliance with the goals and objectives established by the 1988 UN Convention Against Illicit Traffic in Narcotic Drugs and Psychotropic Substances.

This determination and certification shall be published in the Federal Register, and copies shall be provided to Congress together with the accompanying Memorandum of Justification.

Dated: February 10, 2023.
Wendy R. Sherman,
Deputy Secretary of State.

[FR Doc. 2023-08209 Filed 4-18-23; 8:45 am]

BILLING CODE 4710-17-P